NATIONAL SCIENCE FOUNDATION

Sunshine Act Meetings

The National Science Board (NSB), pursuant to NSF regulations (45 CFR part 614), the National Science Foundation Act, as amended, (42 U.S.C. 1862n-5), and the Government in the Sunshine Act (5 U.S.C. 552b), hereby gives notice of the scheduling of meetings for the transaction of NSB business as follows:

TIME AND DATE: Wednesday, December 9, 2020 from 11:00 a.m. to 6:30 p.m., and Thursday, December 10, 2020 from 11:00 a.m. to 6:45 p.m. EST.

PLACE: These meetings will be held by videoconference. There will be no in-person meetings to attend. The public may observe the public meetings, which will be streamed to the NSF You Tube channel. For meetings on Wednesday, December 9, go to: https://www.youtube.com/watch?v=Rl3HttPA_b4. For meetings on Thursday, December 10, go to: https://www.youtube.com/watch?v=uGjqM0yX4rI.

STATUS: Some of these meetings will be open to the public. Others will be closed to the public. See full description below.

MATTERS TO BE CONSIDERED:

Wednesday, December 9, 2020

Plenary Board meeting

Open Session: 11:00 a.m.-12:55 p.m.; 1:25 p.m.-2:10 p.m.

• NSB Chair's Remarks

• NSF Director's Remarks

• NSB Chair Activity Summary

• COVID-19 Impact on Women

• NSF Planning and Response to COVID-19

• Vision 2030 Implementation Working Group Update

Committee on Oversight (CO)

Open Session: 2:10 p.m.-3:25 p.m.

• Committee Chair's Opening Remarks

• Approval of Committee Meeting Minutes

• Approval of Merit Review Digest Overview

• Presentations and Discussion of Broader Impacts

• Inspector General's Update

• Chief Financial Officer's Update

• Chair's Closing Remarks

Committee on National Science and Engineering Policy (SEP)

Open Session: 3:45 p.m.-4:35 p.m.

• Committee Chair's Opening Remarks

• Approval of Prior Minutes

• Update on planning for Indicators 2022

• Impacts of COVID-19 on NCSES Data and Data Products

• Update and Discussion of SEP Policy Products

Committee on Awards and Facilities (A&F)

Open Session: 4:35 p.m.-4:45 p.m.

• Committee Chair's Opening Remarks

• Approval of Prior Minutes

• Rolling Calendar Year 2020-2021 Schedule of Planned Action and Context Items

Plenary Board Meeting

Open Session: 5:00-6:30 p.m.

• Celebrating Science and Public Service with the 2020 Waterman and Honorary Awards Winners

Thursday, December 10, 2020

Plenary Board meeting

Open Session: 11:00 a.m.-11:30 a.m.

• Committee on Equal Opportunities in Science and Engineering (CEOSE) Briefing

Committee on Strategy (CS)

Open Session: 11:30 a.m.-1:40 p.m.

• Committee Chair's Remarks

• Approval of Prior Minutes

• Update on FY 2021 Budget Appropriations

• NSF Strategic Plan 2022-2026

• EHR Advisory Committee STEM Education for the Future Report

• NSF Workforce/Missing Millions Briefing

• NSF Translation, Innovation, and Partnerships (TIP) Briefing

Committee on Strategy (CS)

Closed Session: 2:00 p.m.-2:45 p.m.

• Committee Chair's Remarks

• Approval of Prior Minutes

• Update on FY 2022 Budget Request Development

• Translation, Innovation and Partnerships/Workforce/Missing Millions Discussion

Committee on Awards and Facilities (A&F)

Closed Session: 2:45 p.m.-4:35 p.m.

• Committee Chair's Opening Remarks

• Approval of Prior Minutes

• Written Item: Regional Class Research Vessels

• Annual Report from the Chief Officer for Research Facilities

• Arecibo Observatory

Plenary Board

Closed Session: 4:45 p.m.-4:55 p.m.

• NSB Chair's Opening Remarks

• Approval of Prior Minutes

• Closed Committee Reports

Plenary Board

Executive Closed Session: 4:55 p.m.-5:40 p.m.

• NSB Chair's Opening Remarks

• Approval of Prior Minutes

• NSF Director's Discussion

○ Personnel updates

• 2021 Honorary Awards Discussion and Vote

Committee on External Engagement (EE)

Open Session: 5:45 p.m.-6:25 p.m.

• Committee Chair's Opening Remarks

• Approval of Prior Minutes

• Near Term Policy Engagement

• UT-Knoxville Vision Listening Session

• NSB Messaging

Plenary Board

Open Session: 6:25 p.m.-6:45 p.m.

• NSB Chair's Opening Remarks

• Approval of Prior Minutes

• NSF Director's Remarks

○ Senior Staff Updates

○ Office of Legislative and Public Affairs Update

• Open Committee Reports

• Votes on NSB CY 2021 Schedule and Overview to the 2019 Merit Review Digest

Meeting Adjourns: 6:45 p.m.

MEETINGS THAT ARE OPEN TO THE PUBLIC:

Wednesday, December 9, 2020

11:00 a.m.-12:55 p.m. Plenary NSB

1:25 p.m.-2:10 p.m. Plenary NSB

2:10 p.m.-3:25 p.m. CO

3:45 p.m.-4:35 p.m. SEP

4:35 p.m.-4:45 p.m. A&F

5:00 p.m.-6:30 p.m. Plenary NSB

Thursday, December 10, 2020

11:00 a.m.-11:30 a.m. Plenary NSB

11:30 a.m.-1:40 p.m. CS

5:45 p.m.-6:25 p.m. EE

6:25 p.m.-6:45 p.m. Plenary

MEETINGS THAT ARE CLOSED TO THE PUBLIC:

Thursday, December 10, 2020

2:00 p.m.-2:45 p.m. CS

2:45 p.m.-4:35 p.m. A&F

4:45-4:55 p.m. Plenary

4:55 p.m.-5:40 p.m. Plenary Executive

CONTACT PERSON FOR MORE INFORMATION: The NSB Office contact is Brad Gutierrez, bgutierr@nsf.gov, 703-292-7000. The NSB Public Affairs contact is Nadine Lymn, nlymn@nsf.gov, 703-292-2490. The following persons will be available to provide technical support in accessing the YouTube video: Angel Ntumy (antumy@associates.nsf.gov); Phillip Moulden (pmoulden@associates.nsf.gov).

Supplemental Information: Public portions of meetings will be streamed on YouTube so the public can view them. For meetings on Wednesday, December 9, go to: https://www.youtube.com/watch?v=Rl3HttPA_b4. For meetings on Thursday, December 10, go to: https://www.youtube.com/watch?v=uGjqM0yX4rI.

Please refer to the NSB website for additional information. You will find any updated meeting information and schedule updates (time, place, subject matter, or status of meeting) at https://www.nsf.gov/nsb/meetings/notices.jsp#sunshine.

Members of the public are advised that the NSB provides some flexibility around meeting times. A meeting may be allowed to run over by as much as 15 minutes if the Chair decides the extra time is warranted. The next meeting will start no later than 15 minutes after the noticed start time. If a meeting ends early, the next meeting may start up to 15 minutes earlier than the noticed start time. At no point will NSB or committee meetings vary from noticed times by more than 15 minutes. Open meetings can also be watched in their entirety later through the YouTube link.

Chris Blair,
Executive Assistant to the National Science Board Office.

[FR Doc. 2020-26893 Filed 12-22-20; 4:15 pm]

BILLING CODE 7555-01-P